Proclamation 8522 of May 14, 2010

Armed Forces Day, 2010

By the President of the United States of America

A Proclamation

America’s Armed Forces represent the very best of our national character. They have answered the call to defend our Nation, and their service and sacrifice humble us all. On Armed Forces Day, we pay tribute to these patriots who risk their lives, sometimes giving their last full measure of devotion, to preserve the vision of our forebears and the freedoms we enjoy.

Our service members carry on the proud traditions of duty and valor that have sustained us from our earliest days of independence. Today, we have the greatest military force in the history of the world because we have the finest personnel in the world. Wherever they are needed, from Iraq and Afghanistan to right here at home, they are serving and protecting our Nation.

We owe our Soldiers, Sailors, Airmen, Marines, and Coast Guardsmen more than our gratitude; we owe them our support. That is why my Administration is committed to ensuring they have the strategy, clear mission, and equipment they need to get the job done, and the resources they deserve when they come home. We are also increasing support for military spouses and families who must deal with the stress and separation of war.

Today, let us raise our flags high to honor the service members who keep us safe, as we reaffirm our commitment to fulfill our duty to them.

NOW, THEREFORE, I, BARACK OBAMA, President of the United States of America, and Commander in Chief of the Armed Forces of the United States, continuing the precedent of my predecessors in office, do hereby proclaim the third Saturday of each May as Armed Forces Day.

I direct the Secretary of Defense on behalf of the Army, Navy, Air Force, Marine Corps, and the Secretary of Homeland Security on behalf of the Coast Guard, to plan for appropriate observances each year, with the Secretary of Defense responsible for soliciting the participation and cooperation of civil authorities and private citizens.

I invite the Governors of the States, the Commonwealth of Puerto Rico, and other areas subject to the jurisdiction of the United States, to provide for the observance of Armed Forces Day within their jurisdiction each year in an appropriate manner designed to increase public understanding and appreciation of the Armed Forces of the United States.

I also invite veterans, civic, and other organizations to join in the observance of Armed Forces Day each year.

Finally, I call upon all Americans to display the flag of the United States at their homes on Armed Forces Day, and I urge citizens to learn more about military service by attending and participating in the local observances of the day. I also encourage Americans to volunteer at organizations that provide support to our troops.

Proclamation 8380 of May 14, 2009, is hereby superseded.

IN WITNESS WHEREOF, I have hereunto set my hand this fourteenth day of May, in the year of our Lord two thousand ten, and of the Independence of the United States of America the two hundred and thirty-fourth.

[FR Doc. 2010-12267

Filed 5-19-10; 8:45 am]

Billing code 3195-W0-P